FEDERAL RETIREMENT THRIFT INVESTMENT BOARD

Notice of Sunshine Act Meeting

TIME AND DATE: 10:00 a.m. (Eastern Time) June 23, 2014.

PLACE: 10th Floor Board Meeting Room, 77 K Street NE., Washington, DC 20002.

STATUS: Open to the public.

MATTERS TO BE CONSIDERED:

Open to the Public

1. Approval of the Minutes of the May 19, 2014 Board Member Meeting

2. Monthly Reports

a. Monthly Participant Activity Report

b. Monthly Investment Report

c. Legislative Report

3. Report by the Office of External Affairs

CONTACT PERSON FOR MORE INFORMATION: Kimberly Weaver, Director, Office of External Affairs, (202) 942-1640.

Dated: June 16, 2014.
James Petrick,
General Counsel, Federal Retirement Thrift Investment Board.

[FR Doc. 2014-14349 Filed 6-16-14; 4:15 pm]

BILLING CODE 6760-01-P